LEGAL SERVICES CORPORATION

Sunshine Act Meeting

Time and Date: The Board of Directors of the Legal Services Corporation will meet June 27, 2003 from 9 a.m. until 10:30 a.m. and continue on June 28, 2003 at 10 a.m. until conclusion of the Board's agenda.

Location: The Latham Hotel, 3000 M Street, NW., Washington, DC.

Status of Meeting: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act [5 U.S.C. 552b(c) (10)] and the corresponding provisions of the Legal Services Corporation's implementing regulation [45 CFR 1622.5(h)]. A copy of the General Counsel's Certification that the closing is authorized by law will be available upon request.

Matters to be Considered:

Open Session

1. Approval of agenda.

2. Chair's report on suggested procedures to guide the search for a new President and a new Inspector General.

3. Consider and act on the establishment of a Search Committee for LSC President and Inspector General.

4. Consider and act on whether to authorize a June 28, 2003 executive session of the Search Committee for LSC President and Inspector General to consider and act on search firm options.

5. Consider and act on the establishment of an Annual Performance Reviews Committee.

6. Consider and act on assignment of Directors to the Board's Search Committee for LSC President and Inspector General, Annual Performance Reviews Committee, Finance Committee, Operations & Regulations Committee, and the Provision for the Delivery of Legal Services Committee.

7. Approval of the minutes of the Board's meeting of April 25 & 26, 2003.

8. Approval of the minutes of the Executive Session of the Board's meeting of April 26, 2003.

9. Approval of the minutes of the Board's telephonic meeting of May 19, 2003.

10. Chairman's Report.

11. Members' Reports.

12. Acting Inspector General's Report.

13. President's Report.

14. Consider and act on the report of the Board's Annual Performance Reviews Committee.

15. Consider and act on the report of the Board's Finance Committee.

16. Consider and act on the report of the Board's Operations & Regulations Committee.

17. Consider and act on the report of the Board's Provision for the Delivery of Legal Services Committee.

18. Consider and act on the report of the Board's Search Committee for LSC President and Inspector General.

19. Consider and act on resolutions thanking former members of the LSC Board of Directors for their service.

20. Consider and act on other business.

21. Public comment.

22. Consider and act on whether to authorize an executive session of the Board to receive a briefing by the Acting Inspector General on the activities of the Office of the Inspector General and to consider and act on the Office of Legal Affairs' report on potential and pending litigation involving LSC.

Closed Session

23. Briefing ¹ by the Acting Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 & 1622.3.

24. Consider and act on the Office of Legal Affairs' report on potential and pending litigation involving LSC.

Open Session

25. Consider and act on adjournment of meeting.

Contact Person for Information: Victor M. Fortuno, Vice President for Legal Affairs, General Counsel & Corporate Secretary, at (202) 295-1500.

Special Needs: Upon request, meeting notices will be made available in alternate formats to accommodate visual and hearing impairments. Individuals who have a disability and need an accommodation to attend the meeting may notify Elizabeth S. Cushing, at (202) 295-1500.

Dated: June 20, 2003.
Victor M. Fortuno,
Vice President for Legal Affairs, General Counsel & Corporate Secretary.

[FR Doc. 03-16063 Filed 6-20-03; 2:17 pm]

BILLING CODE 7050-01-P